DEPARTMENT OF HOMELAND SECURITY

U.S. Customs and Border Protection

[Docket No. USCBP-2016-0017]

Commercial Customs Operations Advisory Committee (COAC)

AGENCY: U.S. Customs and Border Protection, Department of Homeland Security (DHS).

ACTION: Committee Management; Notice of Federal Advisory Committee Meeting.

SUMMARY: The Commercial Customs Operations Advisory Committee (COAC) will meet in Washington, DC. The meeting will be open to the public.

DATES: The Commercial Customs Operations Advisory Committee (COAC) will meet on Wednesday, April 27, 2016, from 9:30 a.m. to 12:30 p.m. EDT. Please note that the meeting may close early if the committee has completed its business.

Pre-Registration: Meeting participants may attend either in person or via webinar after pre-registering using a method indicated below:

—For members of the public who plan to attend the meeting in person, please register either online at https://apps.cbp.gov/te_reg/index.asp?w=69; by email to tradeevents@dhs.gov; or by fax to (202) 325-4290 by 5:00 p.m. EDT by April 22, 2016. You must register prior to the meeting in order to attend the meeting in person.

—For members of the public who plan to participate via webinar, please register online at https://apps.cbp.gov/te_reg/index.asp?w=68; by 5:00 p.m. EDT by April 22, 2016. Feel free to share this information with other interested members of your organization or association.

Members of the public who are pre-registered and later require cancellation, please do so in advance of the meeting by accessing one (1) of the following links: https://apps.cbp.gov/te_reg/cancel.asp?w=69; to cancel an in person registration, or https://apps.cbp.gov/te_reg/cancel.asp?w=68; to cancel a webinar registration.

ADDRESSES: The meeting will be held at the U.S. Customs and Border Protection, Office of Training and Development, 1717 H Street NW., Washington, DC 20006. There will be signage posted directing visitors to the location of the conference room.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than April 18, 2016, and must be identified by Docket No. USCBP-2016-0017, and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov. Please do not submit personal information to this docket.

Docket: For access to the docket or to read background documents or comments, go to http://www.regulations.gov and search for Docket Number USCBP-2016-0017. To submit a comment, see the link on the Regulations.gov Web site for “How do I submit a comment?” located on the right hand side of the main site page.

There will be multiple public comment periods held during the meeting on April 27, 2016. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1661; facsimile (202) 325-4290.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The Commercial Customs Operations Advisory Committee (COAC) will hear from the following subcommittees on the topics listed below and then will review, deliberate, provide observations, and formulate recommendations on how to proceed on those topics:

1. The Trade Enforcement and Revenue Collection (TERC) Subcommittee will discuss the progress made on prior TERC recommendations, the Intellectual Property Rights Working Group, Bond Working Group and recommendations from the Antidumping and Countervailing Duty Working Group.

2. The Trusted Trader Subcommittee will discuss their vision for an enhanced Trusted Trader concept that includes engagement with CBP to include relevant partner government agencies with a potential for international interoperability.

3. The Trade Modernization Subcommittee will discuss the progress of the Centers of Excellence and Expertise Uniformity (“Centers”) Working Group. The subcommittee will provide an update on areas they have identified for Centers to develop uniform policies, processes and strategies, with consideration of an industry-focused and account-based approach. The subcommittee will also discuss the progress of the International Engagement and Trade Facilitation Working Group which is identifying examples of best practices in the U.S. and abroad that facilitate trade and could be applied globally. Additionally, the subcommittee will also discuss the formation of a Role of the Broker Working Group to provide updated recommendations for revising 19 CFR 111.

4. The One U.S. Government Subcommittee will discuss progress of the Automated Commercial Environment (ACE) Single Window efforts and the previous COAC recommendations related to this matter. CBP will respond to the working group's previous recommendations and suggestions. There will also be an update from the North American Single Window Working Group on developments of the North American Single Window Vision statement.

5. The Exports Subcommittee will discuss the progress of the Air, Ocean, and Rail Manifest Pilots, and the beginning of work planned for the Truck Manifest sub-workgroup, which will be coordinating with the 1 USG North American Single Window (NASW) work group to ensure that the groups are not duplicating work. The Post Departure Filing (PDF) workgroup will be discussing the results of its planned Table Top exercise.

6. The Global Supply Chain Subcommittee will review and discuss recommendations related to the Pipeline Working Group and also provide an update on pilot discussions with industry. In addition, the subcommittee will report on the startup of the Customs-Trade Partnership Against Terrorism (C-TPAT) Working Group that will be reviewing and developing recommendations to update the C-TPAT minimum security criteria.

Meeting materials will be available by April 22 2016, at: http://www.cbp.gov/trade/stakeholder-engagement/coac/coac-public-meetings.

Dated: April 6, 2016.
Maria Luisa Boyce,
Senior Advisor for Private Sector Engagement, Office of Trade Relations.

[FR Doc. 2016-08211 Filed 4-8-16; 8:45 am]

BILLING CODE 9111-14-P